DEPARTMENT OF AGRICULTURE

Animal and Plant Health Inspection Service

7 CFR Part 301

[Docket No. APHIS-2007-0028]

Emerald Ash Borer; Quarantined Areas; Maryland

AGENCY: Animal and Plant Health Inspection Service, USDA.

ACTION: Affirmation of interim rule as final rule.

SUMMARY: We are adopting as a final rule, without change, an interim rule that amended the emerald ash borer regulations by adding Prince George's County, MD, to the list of areas quarantined because of emerald ash borer. The interim rule was necessary to prevent the artificial spread of the emerald ash borer from Prince George's County, MD, into noninfested areas of the United States. As a result of the interim rule, the interstate movement of regulated articles from that county is restricted.

DATES: Effective on October 9, 2007, we are adopting as a final rule the interim rule published at 72 FR 30458-30460 on June 1, 2007.

FOR FURTHER INFORMATION CONTACT: Ms. Deborah McPartlan, National Emerald Ash Borer Program Manager, Emergency and Domestic Programs, PPQ, APHIS, 4700 River Road Unit 134, Riverdale, MD 20737-1236; (301) 734-4387.

SUPPLEMENTARY INFORMATION:

Background

The emerald ash borer (EAB) (Agrilus planipennis) is a destructive woodboring insect that attacks ash trees (Fraxinus spp., including green ash, white ash, black ash, and several horticultural varieties of ash). The insect, which is indigenous to Asia and known to occur in China, Korea, Japan, Mongolia, the Russian Far East, Taiwan, and Canada, eventually kills healthy ash trees after it bores beneath their bark and disrupts their vascular tissues.

The EAB regulations in 7 CFR 301.53-1 through 301.53-9 (referred to below as the regulations) restrict the interstate movement of regulated articles from quarantined areas to prevent the artificial spread of EAB to noninfested areas of the United States.

In an interim rule ¹ effective and published in the Federal Register on June 1, 2007 (72 FR 30458-30460, Docket No. APHIS-2007-0028), we amended the EAB regulations in § 301.53-3(c) by adding Prince George's County, MD, to the list of quarantined areas.

¹ To view the interim rule and the comment we received, go to http://www.regulations.gov/fdmspublic/component/main?main=DocketDetail&d=APHIS-2007-0028.

Comments on the interim rule were required to be received on or before July 31, 2007. We received one comment by that date. The comment was from a State insect pest prevention and management program supervisor who supported the interim rule. Therefore, for the reasons given in the interim rule, we are adopting the interim rule as a final rule.

This action also affirms the information contained in the interim rule concerning Executive Order 12866 and the Regulatory Flexibility Act, Executive Orders 12372 and 12988, and the Paperwork Reduction Act. Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 72 FR 30458-30460 on June 1, 2007.

Done in Washington, DC, this 2nd day of October 2007.
Kevin Shea,
Acting Administrator, Animal and Plant Health Inspection Service.

[FR Doc. E7-19839 Filed 10-5-07; 8:45 am]

BILLING CODE 3410-34-P